DEPARTMENT OF TRANSPORTATION

Federal Aviation Administration

14 CFR Part 97

[Docket No. 31302; Amdt. No. 3896]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 23, 2020. The compliance date for each SIAP, associated Takeoff Minimums, and ODP is specified in the amendatory provisions.

The incorporation by reference of certain publications listed in the regulations is approved by the Director of the Federal Register as of March 23, 2020.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on March 3, 2020.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC Date | Subject
23-Apr-20 | MI | Marquette | Sawyer Intl | 0/0497 | 3/2/20 | ILS OR LOC RWY 1, Amdt 1A.
23-Apr-20 | MI | Marquette | Sawyer Intl | 0/0498 | 3/2/20 | RNAV (GPS) RWY 1, Amdt 1.
23-Apr-20 | LA | Mansfield | C E 'Rusty' Williams | 0/0852 | 3/3/20 | RNAV (GPS) RWY 18, Orig-B.
23-Apr-20 | MN | Owatonna | Owatonna Degner Rgnl | 0/1181 | 3/3/20 | VOR RWY 12, Amdt 10A.
23-Apr-20 | MN | Owatonna | Owatonna Degner Rgnl | 0/1182 | 3/2/20 | RNAV (GPS) RWY 12, Amdt 1A.
23-Apr-20 | ND | Dickinson | Dickinson-Theodore Roosevelt Rgnl | 0/1183 | 3/2/20 | VOR-A, Amdt 6.
23-Apr-20 | ND | Dickinson | Dickinson-Theodore Roosevelt Rgnl | 0/1184 | 3/2/20 | RNAV (GPS) RWY 14, Amdt 1.
23-Apr-20 | ND | Dickinson | Dickinson-Theodore Roosevelt Rgnl | 0/1185 | 3/2/20 | RNAV (GPS) RWY 32, Amdt 2A.
23-Apr-20 | TX | Fort Worth | Fort Worth Meacham Intl | 0/1186 | 3/3/20 | ILS OR LOC RWY 34, Amdt 2.
23-Apr-20 | SD | Winner | Winner Rgnl | 0/1187 | 3/2/20 | RNAV (GPS) RWY 13, Orig-B.
23-Apr-20 | CO | Hayden | Yampa Valley | 0/1211 | 3/3/20 | VOR/DME-B, Amdt 1.
23-Apr-20 | MT | Kalispell | Glacier Park Intl | 0/1212 | 3/3/20 | VOR/DME RWY 30, Amdt 10A.
23-Apr-20 | PA | Altoona | Altoona-Blair County | 0/1226 | 3/3/20 | RNAV (GPS) RWY 21, Amdt 1C.
23-Apr-20 | PA | Altoona | Altoona-Blair County | 0/1227 | 3/3/20 | RNAV (GPS) Y RWY 3, Amdt 1A.
23-Apr-20 | FL | Fort Pierce | Treasure Coast Intl | 0/1228 | 3/3/20 | RNAV (GPS) RWY 14, Amdt 2B.
23-Apr-20 | FL | Fort Pierce | Treasure Coast Intl | 0/1229 | 3/3/20 | RNAV (GPS) RWY 28L, Amdt 1B.
23-Apr-20 | FL | Fort Pierce | Treasure Coast Intl | 0/1230 | 3/3/20 | RNAV (GPS) RWY 32, Amdt 1C.
23-Apr-20 | FL | Fort Pierce | Treasure Coast Intl | 0/1231 | 3/3/20 | VOR/DME RWY 14, Amdt 9C.
23-Apr-20 | NJ | Trenton | Trenton Mercer | 0/1232 | 3/3/20 | RNAV (GPS) RWY 16, Orig-B.
23-Apr-20 | NJ | Trenton | Trenton Mercer | 0/1233 | 3/3/20 | RNAV (GPS) RWY 34, Orig-D.
23-Apr-20 | NJ | Trenton | Trenton Mercer | 0/1234 | 3/3/20 | ILS OR LOC RWY 6, Amdt 10D.
23-Apr-20 | NJ | Trenton | Trenton Mercer | 0/1235 | 3/3/20 | RNAV (GPS) Z RWY 6, Orig-C.
23-Apr-20 | NJ | Trenton | Trenton Mercer | 0/1236 | 3/3/20 | VOR OR GPS-A, Amdt 11A.
23-Apr-20 | WA | Deer Park | Deer Park | 0/2108 | 3/3/20 | NDB-A, Amdt 2B.
23-Apr-20 | WA | Deer Park | Deer Park | 0/2109 | 3/3/20 | RNAV (GPS) RWY 34, Orig-A.
23-Apr-20 | MN | Glencoe | Glencoe Muni | 0/2120 | 3/3/20 | NDB RWY 31, Amdt 1.
23-Apr-20 | OH | Lorain/Elyria | Lorain County Rgnl | 0/4427 | 2/19/20 | VOR-A, Amdt 3.
23-Apr-20 | TX | Dallas | Addison | 0/4428 | 2/19/20 | RNAV (GPS) RWY 15, Amdt 1A.
23-Apr-20 | TX | Dallas | Addison | 0/4429 | 2/19/20 | ILS OR LOC RWY 15, Amdt 11A.
23-Apr-20 | AR | Hope | Hope Muni | 0/4431 | 2/19/20 | RNAV (GPS) RWY 16, Orig-A.
23-Apr-20 | PA | Doylestown | Doylestown | 0/4435 | 2/14/20 | RNAV (GPS) RWY 5, Orig-B.
23-Apr-20 | PA | Doylestown | Doylestown | 0/4436 | 2/14/20 | RNAV (GPS) RWY 23, Amdt 1B.
23-Apr-20 | TN | Tullahoma | Tullahoma Rgnl Arpt/Wm Northern Field | 0/5063 | 2/18/20 | RNAV (GPS) RWY 36, Amdt 1B.
23-Apr-20 | TN | Tullahoma | Tullahoma Rgnl Arpt/Wm Northern Field | 0/5064 | 2/18/20 | RNAV (GPS) RWY 24, Amdt 1B.
23-Apr-20 | TN | Tullahoma | Tullahoma Rgnl Arpt/Wm Northern Field | 0/5065 | 2/18/20 | RNAV (GPS) RWY 18, Amdt 1B.
23-Apr-20 | TN | Springfield | Springfield Robertson County | 0/5066 | 2/18/20 | RNAV (GPS) RWY 4, Amdt 1B.
23-Apr-20 | TN | Springfield | Springfield Robertson County | 0/5067 | 2/18/20 | RNAV (GPS) RWY 22, Amdt 1B.
23-Apr-20 | GA | Eastman | Heart Of Georgia Rgnl | 0/5068 | 2/18/20 | VOR/DME-A, Amdt 8.
23-Apr-20 | MS | Columbus/W Point/Starkville | Golden Triangle Rgnl | 0/5069 | 2/18/20 | ILS OR LOC RWY 18, Amdt 8A.
23-Apr-20 | FL | Orlando | Orlando Sanford Intl | 0/5070 | 2/18/20 | ILS OR LOC RWY 9L, Amdt 4A.
23-Apr-20 | FL | Orlando | Orlando Sanford Intl | 0/5071 | 2/18/20 | RNAV (GPS) RWY 18, Orig-C.
23-Apr-20 | FL | Orlando | Orlando Sanford Intl | 0/5072 | 2/18/20 | RNAV (GPS) RWY 27L, Orig-A.
23-Apr-20 | MD | Baltimore | Baltimore/Washington Intl Thurgood Marshall | 0/5073 | 2/18/20 | ILS OR LOC RWY 15L, Amdt 4.
23-Apr-20 | MN | Thief River Falls | Thief River Falls Rgnl | 0/5076 | 2/19/20 | RNAV (GPS) RWY 13, Orig-A.
23-Apr-20 | MN | Thief River Falls | Thief River Falls Rgnl | 0/5077 | 2/19/20 | RNAV (GPS) RWY 31, Orig-A.
23-Apr-20 | MN | Thief River Falls | Thief River Falls Rgnl | 0/5078 | 2/19/20 | VOR RWY 31, Amdt 8D.
23-Apr-20 | MN | Rochester | Rochester Intl | 0/5079 | 2/19/20 | VOR RWY 20, Amdt 14A.
23-Apr-20 | MN | Rochester | Rochester Intl | 0/5080 | 2/19/20 | VOR RWY 2, Amdt 17A.
23-Apr-20 | NE | Scribner | Scribner State | 0/5081 | 2/19/20 | VOR/DME RWY 35, Amdt 2B.
23-Apr-20 | ND | Bismarck | Bismarck Muni | 0/5082 | 2/19/20 | ILS OR LOC RWY 13, Amdt 4.
23-Apr-20 | ND | Bismarck | Bismarck Muni | 0/5083 | 2/19/20 | RNAV (GPS) RWY 3, Amdt 2A.
23-Apr-20 | ND | Bismarck | Bismarck Muni | 0/5084 | 2/19/20 | RNAV (GPS) RWY 13, Orig-A.
23-Apr-20 | ND | Bismarck | Bismarck Muni | 0/5085 | 2/19/20 | RNAV (GPS) RWY 31, Amdt 1B.
23-Apr-20 | ND | Bismarck | Bismarck Muni | 0/5086 | 2/19/20 | VOR-A, Amdt 21.
23-Apr-20 | IA | Fort Madison | Fort Madison Muni | 0/5087 | 2/19/20 | VOR/DME-A, Amdt 7A.
23-Apr-20 | WI | Menomonie | Menomonie Muni-Score Field | 0/5090 | 2/19/20 | VOR/DME RWY 27, Amdt 1.
23-Apr-20 | MT | Great Falls | Great Falls Intl | 0/5095 | 2/19/20 | VOR/DME RWY 3, Amdt 17A.
23-Apr-20 | CA | Bakersfield | Meadows Field | 0/5096 | 2/19/20 | VOR-A, Orig-A.
23-Apr-20 | WA | Walla Walla | Walla Walla Rgnl | 0/5097 | 2/19/20 | VOR/DME RWY 2, Orig-B.
23-Apr-20 | CA | Red Bluff | Red Bluff Muni | 0/5098 | 2/19/20 | VOR/DME RWY 15, Amdt 8A.
23-Apr-20 | CA | Red Bluff | Red Bluff Muni | 0/5099 | 2/19/20 | VOR RWY 33, Amdt 8A.
23-Apr-20 | AL | Mobile | Mobile Downtown | 0/5886 | 2/19/20 | VOR RWY 18, Amdt 2A.
23-Apr-20 | AL | Mobile | Mobile Downtown | 0/5887 | 2/19/20 | VOR RWY 14, Amdt 8A.
23-Apr-20 | MA | Beverly | Beverly Rgnl | 0/5888 | 2/19/20 | VOR RWY 16, Amdt 5D.
23-Apr-20 | TX | Houston | William P Hobby | 0/5889 | 2/19/20 | RNAV (GPS) RWY 17, Amdt 1A.
23-Apr-20 | TX | Houston | William P Hobby | 0/5890 | 2/19/20 | RNAV (GPS) RWY 22, Amdt 2B.
23-Apr-20 | TX | Houston | William P Hobby | 0/5891 | 2/19/20 | RNAV (GPS) RWY 35, Amdt 1B.
23-Apr-20 | GA | Waycross | Waycross-Ware County | 0/5900 | 2/19/20 | VOR-A, Amdt 9.
23-Apr-20 | MN | Austin | Austin Muni | 0/6450 | 2/21/20 | ILS OR LOC RWY 35, Amdt 1B.
23-Apr-20 | TX | Dallas | Dallas Executive | 0/6451 | 2/21/20 | VOR/DME RWY 17, Amdt 1.
23-Apr-20 | TX | Dallas | Dallas Executive | 0/6452 | 2/21/20 | RNAV (GPS) RWY 35, Orig.
23-Apr-20 | MO | Jefferson City | Jefferson City Memorial | 0/6454 | 2/21/20 | RNAV (GPS) RWY 12, Amdt 1A.
23-Apr-20 | MO | Jefferson City | Jefferson City Memorial | 0/6455 | 2/21/20 | RNAV (GPS) RWY 30, Orig-A.
23-Apr-20 | FL | Daytona Beach | Daytona Beach Intl | 0/6527 | 2/20/20 | RNAV (GPS) RWY 7L, Amdt 1B.
23-Apr-20 | FL | Daytona Beach | Daytona Beach Intl | 0/6528 | 2/20/20 | RNAV (GPS) RWY 16, Amdt 1C.
23-Apr-20 | TX | Abilene | Abilene Rgnl | 0/6651 | 2/21/20 | VOR OR GPS-A, Amdt 8A.
23-Apr-20 | FL | Palm Coast | Flagler Executive | 0/6660 | 2/20/20 | RNAV (GPS) RWY 6, Amdt 2.
23-Apr-20 | FL | Palm Coast | Flagler Executive | 0/6661 | 2/20/20 | RNAV (GPS) RWY 24, Amdt 1.
23-Apr-20 | FL | Palm Coast | Flagler Executive | 0/6662 | 2/20/20 | RNAV (GPS) RWY 29, Amdt 1.
23-Apr-20 | IN | La Porte | La Porte Muni | 0/7323 | 2/21/20 | VOR-A, Amdt 7B.
23-Apr-20 | IN | La Porte | La Porte Muni | 0/7325 | 2/21/20 | RNAV (GPS) RWY 2, Amdt 1B.
23-Apr-20 | IN | La Porte | La Porte Muni | 0/7326 | 2/21/20 | RNAV (GPS) RWY 20, Amdt 1A.
23-Apr-20 | AZ | Phoenix | Phoenix Sky Harbor Intl | 0/7649 | 2/24/20 | ILS OR LOC/DME RWY 7L, Amdt 11A.
23-Apr-20 | AZ | Phoenix | Phoenix Sky Harbor Intl | 0/7650 | 2/24/20 | ILS OR LOC RWY 7R, Amdt 2B.
23-Apr-20 | AZ | Phoenix | Phoenix Sky Harbor Intl | 0/7652 | 2/24/20 | ILS OR LOC RWY 25L, Amdt 1G.
23-Apr-20 | AZ | Phoenix | Phoenix Sky Harbor Intl | 0/7653 | 2/24/20 | RNAV (GPS) Y RWY 7L, Amdt 1A.
23-Apr-20 | AZ | Phoenix | Phoenix Sky Harbor Intl | 0/7654 | 2/24/20 | RNAV (GPS) Y RWY 7R, Amdt 1A.
23-Apr-20 | AZ | Phoenix | Phoenix Sky Harbor Intl | 0/7655 | 2/24/20 | RNAV (GPS) Y RWY 8, Amdt 1.
23-Apr-20 | AZ | Phoenix | Phoenix Sky Harbor Intl | 0/7656 | 2/24/20 | RNAV (GPS) Y RWY 25L, Amdt 1A.
23-Apr-20 | AZ | Phoenix | Phoenix Sky Harbor Intl | 0/7657 | 2/24/20 | RNAV (GPS) Y RWY 25R, Amdt 2B.
23-Apr-20 | AZ | Phoenix | Phoenix Sky Harbor Intl | 0/7658 | 2/24/20 | RNAV (GPS) Y RWY 26, Amdt 2A.
23-Apr-20 | AZ | Phoenix | Phoenix Sky Harbor Intl | 0/7745 | 2/24/20 | ILS OR LOC RWY 8, Orig-D.
23-Apr-20 | NY | Buffalo | Buffalo Niagara Intl | 0/8412 | 2/26/20 | RNAV (GPS) RWY 14, Amdt 2B.
23-Apr-20 | NY | Buffalo | Buffalo Niagara Intl | 0/8413 | 2/26/20 | RNAV (GPS) RWY 32, Amdt 2A.
23-Apr-20 | PA | Johnstown | John Murtha Johnstown-Cambria Co | 0/8416 | 2/26/20 | RNAV (GPS) RWY 5, Amdt 2A.
23-Apr-20 | PA | Johnstown | John Murtha Johnstown-Cambria Co | 0/8417 | 2/26/20 | RNAV (GPS) RWY 23, Amdt 2A.
23-Apr-20 | UT | Panguitch | Panguitch Muni | 0/8930 | 2/25/20 | RNAV (GPS) RWY 36, Orig.
23-Apr-20 | UT | Panguitch | Panguitch Muni | 0/8931 | 2/25/20 | RNAV (GPS) RWY 18, Orig.
23-Apr-20 | OK | Perry | Perry Muni | 0/9176 | 2/25/20 | VOR RWY 17, Amdt 3C.
23-Apr-20 | IL | Decatur | Decatur | 0/9213 | 2/25/20 | RNAV (GPS) RWY 12, Orig-A.
23-Apr-20 | IL | Decatur | Decatur | 0/9214 | 2/25/20 | RNAV (GPS) RWY 6, Orig-B.
23-Apr-20 | SD | Watertown | Watertown Rgnl | 0/9219 | 2/25/20 | VOR OR TACAN RWY 17, Amdt 17.
23-Apr-20 | SD | Watertown | Watertown Rgnl | 0/9220 | 2/25/20 | RNAV (GPS) RWY 17, Orig.
23-Apr-20 | SD | Watertown | Watertown Rgnl | 0/9221 | 2/25/20 | RNAV (GPS) RWY 30, Amdt 1.
23-Apr-20 | CO | Steamboat Springs | Steamboat Springs/Bob Adams Field | 0/9226 | 2/26/20 | VOR/DME-C, Amdt 1B.
23-Apr-20 | CO | Steamboat Springs | Steamboat Springs/Bob Adams Field | 0/9227 | 2/26/20 | RNAV (GPS)-E, Orig-A.
23-Apr-20 | NE | Kearney | Kearney Rgnl | 0/9319 | 2/26/20 | VOR RWY 18, Amdt 14.
23-Apr-20 | AR | Lake Village | Lake Village Muni | 0/9320 | 2/26/20 | VOR-A, Amdt 8B.
23-Apr-20 | KS | Liberal | Liberal Mid-America Rgnl | 0/9631 | 3/2/20 | VOR RWY 4, Amdt 3.
23-Apr-20 | KS | Liberal | Liberal Mid-America Rgnl | 0/9632 | 3/2/20 | VOR/DME RWY 17, Amdt 4.
23-Apr-20 | MN | Buffalo | Buffalo Muni | 0/9633 | 2/26/20 | VOR-A, Orig.
23-Apr-20 | TX | Beeville | Beeville Muni | 0/9634 | 2/26/20 | VOR/DME RWY 12, Amdt 6A.
23-Apr-20 | FL | Marianna | Marianna Muni | 0/9684 | 2/26/20 | VOR-A, Amdt 12A.
23-Apr-20 | FL | Marianna | Marianna Muni | 0/9685 | 2/26/20 | VOR-B, Amdt 5A.
23-Apr-20 | FL | Marianna | Marianna Muni | 0/9686 | 2/26/20 | NDB-C, Amdt 4B.
23-Apr-20 | MI | Iron Mountain Kingsford | Ford | 0/9687 | 2/26/20 | LOC/DME BC RWY 19, Amdt 13A.
23-Apr-20 | MI | Iron Mountain Kingsford | Ford | 0/9688 | 2/26/20 | RNAV (GPS) RWY 1, Orig-A.
23-Apr-20 | MI | Iron Mountain Kingsford | Ford | 0/9689 | 2/26/20 | RNAV (GPS) RWY 19, Orig-A.
23-Apr-20 | MI | Iron Mountain Kingsford | Ford | 0/9690 | 2/26/20 | VOR RWY 31, Amdt 16A.
23-Apr-20 | MA | Hyannis | Barnstable Muni-Boardman/Polando Field | 0/9691 | 2/26/20 | RNAV (GPS) RWY 15, Orig-B.
23-Apr-20 | MA | Hyannis | Barnstable Muni-Boardman/Polando Field | 0/9692 | 2/26/20 | RNAV (GPS) RWY 6, Orig-A.
23-Apr-20 | MA | Hyannis | Barnstable Muni-Boardman/Polando Field | 0/9693 | 2/26/20 | RNAV (GPS) RWY 24, Amdt 1.
23-Apr-20 | MA | Hyannis | Barnstable Muni-Boardman/Polando Field | 0/9694 | 2/26/20 | RNAV (GPS) RWY 33, Orig-B.
23-Apr-20 | NY | New York | Laguardia | 0/9903 | 2/14/20 | ILS OR LOC RWY 4, Amdt 37A.
23-Apr-20 | FL | Miami | Miami-Opa Locka Executive | 0/9974 | 2/27/20 | ILS OR LOC RWY 27R, Amdt 1C.

[FR Doc. 2020-05868 Filed 3-20-20; 8:45 am]

BILLING CODE 4910-13-P